DEPARTMENT OF ENERGY

Federal Energy Regulatory Commission

Combined Notice of Filings

Take notice that the Commission has received the following Natural Gas Pipeline Rate and Refund Report filings:

Filings Instituting Proceedings

Docket Numbers: RP19-1064-002.

Applicants: Stingray Pipeline Company, L.L.C.

Description: Compliance filing Stingray Second Order No. 587-Y Compliance Filing to be effective 8/1/2019.

Filed Date: 8/8/19.

Accession Number: 20190808-5028.

Comments Due: 5 p.m. ET 8/20/19.

Docket Numbers: RP19-1463-000.

Applicants: Big Sandy Pipeline, LLC, Bobcat Gas Storage, East Tennessee Natural Gas, LLC, Egan Hub Storage, LLC, Garden Banks Gas Pipeline, LLC,Maritimes & Northeast Pipeline, L.L.C., Moss Bluff Hub, LLC, Mississippi Canyon Gas Pipeline, L.L.C., Ozark Gas Transmission, L.L.C., NEXUS Gas Transmission, LLC, Sabal Trail Transmission, LLC, Saltville Gas Storage Company L.L.C.,Southeast Supply Header, LLC, Steckman Ridge, LP, Texas Eastern Transmission, LP, Nautilus Pipeline Company, L.L.C., Algonquin Gas Transmission, LLC.

Description: Compliance filing Enbridge (U.S.) Pipelines Request for Waivers—LINK System Maintenance.

Filed Date: 8/8/19.

Accession Number: 20190808-5044.

Comments Due: 5 p.m. ET 8/20/19.

Docket Numbers: RP19-1464-000.

Applicants: Gulf South Pipeline Company, LP.

Description: § 4(d) Rate Filing: Amendment to Neg Rate Agmt (Entergy 48769) to be effective 6/1/2019.

Filed Date: 8/8/19.

Accession Number: 20190808-5076.

Comments Due: 5 p.m. ET 8/20/19.

Docket Numbers: RP19-846-002.

Applicants: Black Hills Shoshone Pipeline, LLC.

Description: Compliance filing NAESB Compliance Filing—Order No. 587-Y to be effective 4/1/2019.

Filed Date: 8/8/19.

Accession Number: 20190808-5130.

Comments Due: 5 p.m. ET 8/20/19.

Docket Numbers: RP19-1465-000.

Applicants: Algonquin Gas Transmission, LLC.

Description: § 4(d) Rate Filing: Negotiated Rate—NSTAR releases to BP to be effective 8/9/2019.

Filed Date: 8/9/19.

Accession Number: 20190809-5030.

Comments Due: 5 p.m. ET 8/21/19.

Docket Numbers: RP19-884-001.

Applicants: Maritimes & Northeast Pipeline, L.L.C.

Description: Compliance filing RP19-884-000 Order 587-Y Compliance Filing to be effective 8/1/2019.

Filed Date: 8/9/19.

Accession Number: 20190809-5046.

Comments Due: 5 p.m. ET 8/21/19.

Docket Numbers: RP19-904-001.

Applicants: Freebird Gas Storage, L.L.C.

Description: Compliance filing Revised FERC Order No. 587-Y Compliance Filing to be effective 8/1/2019.

Filed Date: 8/9/19.

Accession Number: 20190809-5125.

Comments Due: 5 p.m. ET 8/21/19.

Docket Numbers: RP19-906-001.

Applicants: Caledonia Energy Partners, L.L.C.

Description: Compliance filing Revised FERC Order 587-Y Compliance Filing to be effective 8/1/2019.

Filed Date: 8/9/19.

Accession Number: 20190809-5123.

Comments Due: 5 p.m. ET 8/21/19.

Docket Numbers: RP19-907-001.

Applicants: East Cheyenne Gas Storage, LLC.

Description: Compliance filing Revised FERC Order No. 587-Y Compliance Filing to be effective 8/1/2019.

Filed Date: 8/9/19.

Accession Number: 20190809-5124.

Comments Due: 5 p.m. ET 8/21/19.

Docket Numbers: RP19-926-001.

Applicants: Rendezvous Pipeline Company, LLC.

Description: Compliance filing Revised NAESB Compliance Filing—Order No. 587-Y to be effective 8/1/2019.

Filed Date: 8/9/19.

Accession Number: 20190809-5108.

Comments Due: 5 p.m. ET 8/21/19.

Docket Numbers: RP19-929-001.

Applicants: TransColorado Gas Transmission Company LLC.

Description: Compliance filing NAESB 3.1 Compliance Filing to be effective 8/1/2019.

Filed Date: 8/9/19.

Accession Number: 20190809-5077.

Comments Due: 5 p.m. ET 8/21/19.

Docket Numbers: RP19-930-001.

Applicants: El Paso Natural Gas Company, L.L.C.

Description: Compliance filing NAESB 3.1 Compliance Filing to be effective 8/1/2019.

Filed Date: 8/9/19.

Accession Number: 20190809-5083.

Comments Due: 5 p.m. ET 8/21/19.

Docket Numbers: RP19-940-001.

Applicants: Golden Triangle Storage, Inc.

Description: Compliance filing GTS Compliance Filing Pursuant to Order in Docket No. RP19-940-000 to be effective 8/1/2019.

Filed Date: 8/9/19.

Accession Number: 20190809-5120.

Comments Due: 5 p.m. ET 8/21/19.

Docket Numbers: RP19-997-001.

Applicants: MoGas Pipeline LLC.

Description: Compliance filing MoGas Revised NAESB Compliance Filing to be effective 8/1/2019.

Filed Date: 8/9/19.

Accession Number: 20190809-5038.

Comments Due: 5 p.m. ET 8/21/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2019.
Kimberly D. Bose,
Secretary.

[FR Doc. 2019-17732 Filed 8-16-19; 8:45 am]

BILLING CODE 6717-01-P